DEPARTMENT OF TRANSPORTATION

Pipeline and Hazardous Materials Safety Administration

[Docket No. PHMSA-2008-0186]

Pipeline Safety: Voluntary Survey of Regulated and Unregulated Low-Stress Pipeline Information

AGENCY: Pipeline and Hazardous Materials Safety Administration (PHMSA), DOT.

ACTION: Notice.

SUMMARY: PHMSA's Office of Pipeline Safety (OPS) is requesting each operator of a rural low-stress hazardous liquid pipeline to complete a voluntary survey to gather information concerning the mileage and characteristics of these pipelines to assess the costs of subjecting rural low-stress pipeline mileage to the pipeline safety standards and regulations pursuant to the PIPES Act. The purpose of this notice is to request all operators of LSPs to complete the voluntary survey, including operators of low-stress pipelines that will not be subject to the pipeline safety standards and regulations until Phase II of the rulemaking proceeding.

DATES: It is requested that the voluntary survey be completed by September 15, 2008.

ADDRESSES: To complete the voluntary survey, go to the OPS Online Data Entry Web site at http://opsweb.phmsa.dot.gov. For those individuals that cannot access the Internet, please contact Carson Poe at 617-494-2765 for filing instructions.

FOR FURTHER INFORMATION CONTACT: Roger Little by telephone at 202-366-4569, by fax at 202-366-4566, or by mail at DOT, PHMSA, PHP-10, 1200 New Jersey Avenue, SE., Washington, DC 20590, or by e-mail at roger.little@dot.gov.

SUPPLEMENTARY INFORMATION:

Background

With certain exceptions, section 4 of the Pipeline Inspection, Protection, Enforcement, and Safety Act of 2006 (PIPES Act) (Pub. L. 109-468) requires PHMSA to issue regulations subjecting low-stress hazardous liquid transmission pipelines (LSPs) to the same standards and regulations as other hazardous liquid transmission pipelines. On June 3, 2008, PHMSA issued a Final Rule that subjected larger diameter rural LSPs located within a half-mile buffer zone of an unusually sensitive area (USA) to the part 195 standards and regulations (73 FR 31364). In that rulemaking proceeding, PHMSA explained that it was only the first phase of a two-phase approach to meeting the PIPES Act mandate and that additional rural LSP mileage would be subjected to the part 195 regulations in Phase II.

The June 3, 2008 Final Rule subjected all operators of LSPs to certain reporting requirements, including LSPs that will be considered in the Phase II rulemaking. These reporting requirements include incident reports and safety-related condition reports as reflected in 49 CFR 195.48, but did not require the reporting of pipeline mileage or characteristics (except to the extent that operators of regulated LSP mileage subject to the integrity management requirements must report high consequence area (HCA) mileage).

In order to assess the costs of subjecting LSP mileage to the pipeline safety standards and regulations pursuant to the PIPES Act, PHMSA has initiated a voluntary survey on rural LSPs. The voluntary survey supports DOT's Strategic Safety Goal. PHMSA will be better able to promulgate future safety-related LSP regulations with more accurate information about pipelines.

Voluntary survey results will be summarized by the John A. Volpe National Transportation Systems Center (Volpe Center) of DOT. The voluntary survey solicits information on the following:

• Pipeline Mileage—Total number of LSP miles.

• Rural LSP Characteristics—Specific information on interplant pipeline miles, mileage of LSP having a diameter equal to or greater than 8⅝ inches, mileage of steel LSP, and mileage of non-metallic LSP.

• Pipeline Products—Listing of all products transported using rural LSP.

• Pipeline Location by State—Listing of states with LSP and corresponding mileages.

• Unusually Sensitive Areas—Total number of LSP miles within one-half mile of an unusually sensitive area.

• Breakout Tanks—Total number of breakout tanks associated with the LSP miles.

PHMSA will use the results to calculate the economic impacts associated with current and future LSP rulemakings. In addition, PHMSA will be able to oversee the safety of LSPs more effectively with more accurate information.

The voluntary survey is posted on OPS Online Data Entry Web site at http://opsweb.phmsa.dot.gov. All companies completing the voluntary survey are asked to do so via the online link provided where possible. Operators who do not have access to the Internet should contact Carson Poe of the Volpe Center by phone at 617-494-2765 for alternate filing instructions.

To ensure that PHMSA reaches all of the targeted operators, PHMSA will also electronically deliver notification of how to complete the voluntary survey to each of the companies operating regulated hazardous liquid pipelines. PHMSA will send the e-mail to the contact person responsible for the most recent annual report submission, as this voluntary survey is closely related to the infrastructure information PHMSA receives through the annual reports.

In an effort to reach companies that operate currently unregulated pipelines exclusively, PHMSA is working with the American Petroleum Institute (API), the Independent Petroleum Association of America (IPAA), and the Association of Oil Pipelines (AOPL) to announce the voluntary survey via these industry associations' e-mail newsletters to their members.

The Office of Management and Budget (OMB) regulations (5 CFR part 1320) implementing provisions of the Paperwork Reduction Act of 1995 (Pub. L. 104-13) require that interested members of the public and affected agencies have an opportunity to comment on information collection and recordkeeping activities (see 5 CFR 1320.8(s)) and specify that no person is required to respond to an information collection unless it displays a valid OMB control number. In accordance with the Paperwork Reduction Act of 1995, PHMSA has received OMB approval for the initiation of this voluntary survey as follows:

Title: Rural Low-Stress Pipelines Survey.

OMB Control Number: 2137-0623.

Affected Public: Hazardous liquid pipeline operators.

Expiration Date: June 30, 2011.

Estimated Number of Respondents: 158.

Estimated Number of Responses: 158.

Estimated Annual Burden Hours: 2,528 hours.

Issued in Washington, DC on July 25, 2008.
Jeffrey D. Wiese,
Associate Administrator for Pipeline Safety.

[FR Doc. E8-17530 Filed 7-30-08; 8:45 am]

BILLING CODE 4910-60-P